ENVIRONMENTAL PROTECTION AGENCY

40 CFR Part 52

[UT-001-0029; FRL-6711-9]

Approval and Promulgation of Air Quality Implementation Plan for Utah: Transportation Control Measures

AGENCY: Environmental Protection Agency (EPA).

ACTION: Direct final rule.

SUMMARY: EPA is approving revisions to the Utah State Implementation Plan (SIP) that incorporate a new transportation control measure (TCM) in Utah County. Approval of this TCM as part of the Utah SIP means that this measure will receive priority for funding, and that it may proceed in the event of a transportation conformity lapse. We are approving this SIP revision under sections 110(k) and 176 of the Clean Air Act. We give our rationale for approving this SIP revision in this document.

DATES: This rule is effective on August 14, 2000 without further notice, unless EPA receives adverse comment by July 14, 2000. If we receive adverse comment, we will publish a timely withdrawal in the Federal Register informing the public that this rule will not take effect.

ADDRESSES: Written comments may be mailed to: Richard R. Long, Director, Air and Radiation Program, Mailcode 8P-AR, United States Environmental Protection Agency, Region VIII, 999 18th Street, Suite 500, Denver, Colorado 80202-2466.

Copies of the documents relevant to this action are available for public inspection during normal business hours at the following offices:

United States Environmental Protection Agency, Region VIII, Air and Radiation Program, 999 18th Street, Suite 500, Denver, Colorado 80202-2466; and,

United States Environmental Protection Agency, Air and Radiation Docket and Information Center, 401 M Street, SW, Washington, DC 20460.

Copies of the State documents relevant to this action are available for public inspection at:

Utah Division of Air Quality, Department of Environmental Quality, 150 North 1950 West, Salt Lake City, Utah, 84114-4820.

FOR FURTHER INFORMATION CONTACT: Jeff Houk, Air and Radiation Program, Mailcode 8P-AR, United States Environmental Protection Agency, Region VIII, 999 18th Street, Suite 500, Denver, Colorado 80202-2466. Telephone number: (303) 312-6446.

SUPPLEMENTARY INFORMATION: Throughout this document, wherever “we,” “our,” or “us” is used, we mean EPA.

I. What Is EPA Approving Today and Why?

We are approving revisions to the Utah SIP to incorporate a new TCM. Specifically, we are approving revisions to SIP Section XI, “Other Control Measures for Mobile Sources,” and a new rule, R307-110-19, that incorporates this section of the SIP into State regulation. The specific TCM incorporated in Section XI is the construction of up to 700 park and ride spaces in Utah County by the year 2006. The SIP revision does not specify a location for these park and ride spaces, but refers to the Mountainland Association of Governments' “Utah Valley Area Park and Ride Lot Plan,” which will guide implementation of this measure. Construction of these park and ride spaces is estimated to result in emission reductions of up to 737 pounds per day of carbon monoxide, 175 pounds per day of nitrogen oxides, 75 pounds per day of volatile organic compounds, and 116 pounds per day of particulate matter in the year 2010 (the Park and Ride Lot Plan does not provide emission reduction estimates for the year 2006). The Park and Ride Lot Plan provides these emission reduction estimates for informational purposes; the State is not incorporating the emission reductions into Utah County's SIPs for carbon monoxide or particulate matter at this time. These park and ride facilities have been included in the transportation plan and transportation improvement program for Utah County.

EPA's transportation conformity rule, 40 CFR 93 subpart A, includes several requirements relating to TCMs (62 FR 43780, August 15, 1997). Section 93.113 of the rule requires that TCMs be funded and implemented on the schedule provided for in the SIP, and that other projects not interfere with the implementation of TCMs. As a result of EPA's approval of this TCM into the SIP, this TCM must be implemented on schedule in order for the Mountainland Association of Governments to be able to make a positive finding of conformity for its long range transportation plan and transportation improvement program. In addition, in the event of a conformity lapse, this TCM is eligible to proceed to construction pursuant to section 93.114(b) of the conformity rule.

II. Opportunity for Public Comments

The EPA is publishing this rule without prior proposal because we view this as a noncontroversial amendment and anticipate no adverse comment. However, in the “Proposed Rules” section of today's Federal Register publication, we are publishing a separate document that will serve as the proposal to approve this SIP revision if adverse comments are filed. This rule will be effective on August 14, 2000 without further notice unless we receive adverse comment by July 14, 2000. If EPA receives adverse comment, we will publish a timely withdrawal in the Federal Register informing the public that the rule will not take effect. We will address all public comments in a subsequent final rule based on the proposed rule. We will not institute a second comment period on this action. Any parties interested in commenting must do so at this time.

III. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective August 14, 2000 unless EPA receives adverse written comments by July 14, 2000.

Under section 307(b)(1) of the Clean Air Act, petitions for judicial review of this action must be filed in the United States Court of Appeals for the appropriate circuit by August 14, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Air pollution control, Carbon monoxide, Environmental protection, Hydrocarbons, Incorporation by reference, Intergovernmental relations, Nitrogen dioxide, Particulate matter, Volatile organic compounds.

Dated: June 1, 2000.
Jack McGraw,
Acting Regional Administrator, Region VIII.

Chapter I, title 40, of the Code of Federal Regulations are amended as follows:

PART 52—[AMENDED]

1. The authority citation for part 52 continues to read as follows:

Authority: 42 U.S.C. 7401 et seq.

Subpart TT—Utah

2. Section 52.2320 is amended by adding paragraph (c)(44) to read as follows:

§ 52.2320 Identification of plan.

* * * * *

(c) * * *

(44) On February 29, 2000, the Governor of Utah submitted revisions to Section XI of the SIP that incorporate a new transportation control measure for Utah County into the SIP and State regulation.

(i) Incorporation by reference.

(A) UACR R307-110-19, Section XI, Other Control Measures for Mobile Sources, as adopted on February 9, 2000, effective February 10, 2000.

(B) Revisions to Section XI of the Utah SIP, Other Control Measures for Mobile Sources, adopted February 9, 2000, effective February 10, 2000.

[FR Doc. 00-14993 Filed 6-13-00; 8:45 am]

BILLING CODE 6560-50-P